DEPARTMENT OF TRANSPORTATION

Federal Aviation Administration

14 CFR Part 39

[Docket No. FAA-2004-19002; Directorate Identifier 2003-NM-27-AD]

RIN 2120-AA64

Airworthiness Directives; Airbus Model A300 B2 and A300 B4 Series Airplanes; A300 B4-600, B4-600R, and F4-600R Series Airplanes; and Model C4-605R Variant F Airplanes (Collectively Called A300-600 Series Airplanes)

AGENCY: Federal Aviation Administration (FAA), Department of Transportation (DOT).

ACTION: Supplemental notice of proposed rulemaking (NPRM); reopening of comment period.

SUMMARY: The FAA is revising an earlier NPRM for an airworthiness directive (AD) that applies to certain Airbus Model A300 B2 and A300 B4 series airplanes, and A300-600 series airplanes. The original NPRM would have superseded an existing AD that currently requires repetitive inspections to detect cracks in Gear Rib 5 of the main landing gear (MLG) attachment fittings at the lower flange, and repair, if necessary. That AD also requires modification of Gear Rib 5 of the MLG attachment fittings, which constitutes terminating action for the repetitive inspections. The original NPRM proposed to reduce the compliance times for all inspections, and require doing the inspections in accordance with new revisions of the service bulletins. The original NPRM resulted from new service information that was issued by the manufacturer and mandated by the French airworthiness authority. This new action revises the original NPRM by proposing new repetitive inspections of certain areas of the attachment fittings that were repaired in accordance with the actions specified in both the existing AD and the original NPRM. We are proposing this supplemental NPRM to prevent fatigue cracking of the MLG attachment fittings, which could result in reduced structural integrity of the airplane.

DATES: We must receive comments on this supplemental NPRM by April 21, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For Model A300 B2 and A300 B4 series airplanes, contact Jacques Leborgne, Airbus Customer Service Directorate, 1 Rond Point Maurice Bellonte, 31707 Blagnac Cedex, France, fax (+33) 5 61 93 36 14, for service information identified in this proposed AD. For Model A300 600 series airplanes, contact Airbus, 1 Rond Point Maurice Bellonte, 31707 Blagnac Cedex, France, for service information identified in this proposed AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposal. Send your comments to an address listed in the ADDRESSES section. Include the docket number “Docket No. FAA-2004-19002; Directorate Identifier 2003-NM-27-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in ADDRESSES. Comments will be available in the AD docket shortly after the Docket Management System receives them.

Discussion

We proposed to amend part 39 of the Federal Aviation Regulations (14 CFR part 39) with a notice of proposed rulemaking (the original NPRM) for an AD for certain Airbus Model A300 B2 and A300 B4 series airplanes; and Model A300-600 series airplanes. The original NPRM proposed to supersede AD 2000-05-07, amendment 39-11616 (65 FR 12077, March 8, 2000), which applies to certain Airbus Model A300 and A300-600 series airplanes. The original NPRM was published in the Federal Register on September 7, 2004 (69 FR 54063). The original NPRM proposed to reduce the compliance times for all inspections required by AD 2000-05-07, and to require inspections in accordance with new revisions of the service bulletins. The original NPRM resulted from new service information that was issued by the manufacturer and mandated by the French airworthiness authority. We proposed the original NPRM to prevent fatigue cracking of the main landing gear (MLG) attachment fittings, which could result in reduced structural integrity of the airplane.

Actions Since Original NPRM Was Issued

Since we issued the original NPRM, we have received reports of cracks on airplanes that were modified in accordance with Airbus Service Bulletin A300-57-0235, Revisions 01 through 05; and Airbus Service Bulletin A300-57-6088, Revisions 01 through 04. These service bulletins were cited in both the original NPRM and in AD 2000-05-07 as the appropriate sources of service information for modifying Gear Rib 5 of the MLG attachment fittings at the lower flange. The manufacturer has indicated that the reported cracks may have existed previously, but were probably missed during the installation of the modification because of improper inspection during installation, or because not enough material was removed during the spotfacing operation. The manufacturer has now issued two new service bulletins, described below, which provide procedures for inspecting the modified airplanes to ensure that the inspection area is crack-free.

Relevant Service Information

Airbus has issued the service bulletins identified in the following table.

New Airbus Service Bulletins
Model | Airbus service bulletin | Date
A300-600 | A300-57A6101, including Appendix 01 | May 20, 2005.
A300 B2 and A300 B4 | A300-57A0246, including Appendix 01 | May 20, 2005.

The service bulletins describe procedures for doing repetitive detailed visual inspections for cracks of the bottom flange and the vertical web in the area between the wing rear spar/gear rib 5 attachment, and the forward reaction-rod pickup lug. On the inboard side, this inspection includes inspecting for cracks of the areas around all fasteners, particularly at holes 47 and 54. On the outboard side, this inspection includes inspecting for cracks of the lower flange, the vertical web, and the areas around all fasteners. If any crack is found during this inspection, the service bulletins specify that operators should measure the length of the crack and contact the manufacturer for repair instructions.

If no crack is found during the detailed visual inspection, the service bulletins provide procedures for related investigative and corrective actions. The related investigative action is doing a high-frequency eddy current inspection for cracks of holes 47 and 54. If any crack is found, the corrective action is to contact the manufacturer for repair instructions. If no crack is found, the corrective action is to install new nuts at holes 47 and 54.

The service bulletins also give instructions for reporting all inspection findings, including nil findings, to the manufacturer. The service bulletins specify that the detailed visual inspection is to be repeated at intervals not to exceed 700 flight cycles. If no crack is found during the inspection performed at or above 2,100 flight cycles after modifying Gear Rib 5 of the MLG attachment fittings at the lower flange, the service bulletins specify that no further action is necessary.

The Direction Générale de l'Aviation Civile (DGAC), which is the airworthiness authority for France, mandated the service information and issued French airworthiness directive F-2005-113 R1, dated July 20, 2005, to ensure the continued airworthiness of these airplanes in France.

Comments

We have considered the following comments on the original NPRM.

Support for the Proposed AD

One commenter supports the original NPRM as proposed.

Request To Extend Compliance Time for Modification

One commenter requests that the compliance time for the proposed modification of Gear Rib 5 of the MLG attachment fittings be extended from 15 months to 30 months. The commenter states that the request to extend the compliance time is justified because the repetitive interval has been shortened to 700 flight cycles. According to the commenter, the manner in which this crack is expected to grow means that it will not reach an un-repairable length during the inspection interval. Therefore, the operator states that the time needed to complete the modification should be extended to 30 months to fit the heavy maintenance schedule for all operators. The commenter considers that the adoption of the proposed compliance time of 15 months would require operators to schedule special visits to do the repair, at additional expense and downtime.

We do not agree with the commenter's request to extend the compliance time from 15 months to 30 months. In developing an appropriate compliance time for this action, we considered the urgency associated with the subject unsafe condition, and the practical aspect of accomplishing the required modification within a period of time that corresponds to the normal scheduled maintenance for most affected operators. In addition, because operators' schedules vary substantially, we cannot accommodate every operator's optimal scheduling in each AD. However, according to the provisions of paragraph (p) of this supplemental NPRM, we may approve requests to adjust the compliance time if the request includes data that prove that the new compliance time would provide an acceptable level of safety.

In addition, based on further evaluation of French airworthiness directive 2003-318(B), dated August 20, 2003, we have extended the compliance time for the proposed modification of Gear Rib 5 of the MLG attachment fittings from 15 months to 16 months. This compliance time parallels the compliance time in the French airworthiness directive.

Request To Revise Cost Estimate

The commenter requests that we revise the cost estimate to between 82 and 100 work hours for the modification of gear rib 5. The commenter states that Airbus Service Bulletin A300-57-6088, Revision 04, dated December 3, 2003, includes an estimate of 82 work hours to do this modification. The commenter also states that, in its experience, this modification takes approximately 100 work hours, depending on the difficulty in removing the fasteners. The commenter further states that the need to do the modification during special visits will increase the cost to operators.

We partially agree with the commenter's request. After further analysis of the service information, we agree that the work hours to do the modification as provided in Airbus Service Bulletin A300-57-6088, Revision 04, are higher than the work hours in the original NPRM. The cost information, below, has been revised to indicate this higher amount. We disagree with the request to revise the work hours to between 82 and 100 work hours. We consider in our cost estimates only the time necessary to perform the specific actions actually required by the AD. These figures typically do not include incidental costs, such as the time required to gain access and close up, planning time, or time necessitated by other administrative actions. We have made no further change to this supplemental NPRM regarding this issue.

Explanation of Change in Applicability

We have revised the applicability to identify model designations as published in the most recent type certificate data sheet for the affected models.

Clarification of Alternative Method of Compliance (AMOC) Paragraph

We have revised this action to clarify the appropriate procedure for notifying the principal inspector before using any approved AMOC on any airplane to which the AMOC applies.

Explanation of Change to Service Bulletin Reference

We have revised the applicability to correct a reference to Airbus Service Bulletin A300-57A6087. This service bulletin was inadvertently referred to in the original NPRM as Airbus Service Bulletin A300-75A6087.

FAA's Determination and Proposed Requirements of the Supplemental NPRM

The changes discussed above expand the scope of the original NPRM; therefore, we have determined that it is necessary to reopen the comment period to provide additional opportunity for public comment on this supplemental NPRM.

Difference Between the Supplemental NPRM and Airbus Service Bulletins A300-57A0246 and A300-57A6101

Airbus Service Bulletins A300-57A0246 and A300-57A6101 specify to contact the manufacturer for instructions on how to repair certain conditions, but this proposed AD would require repairing those conditions using a method that we or the DGAC (or its delegated agent) approve. In light of the type of repair that would be required to address the unsafe condition, and consistent with existing bilateral airworthiness agreements, we have determined that, for this proposed AD, a repair we or the DGAC approve would be acceptable for compliance with this proposed AD.

Clarification of Inspection Terminology

In this supplemental NPRM, the “detailed visual inspection” specified in the Airbus service bulletins and in the French airworthiness directives, is referred to as a “detailed inspection.” We have included the definition for a detailed inspection in a note in the supplemental NPRM.

Explanation of Reporting Requirement

This proposed AD also specifies that operators report to the manufacturer any positive findings of cracks during the post-modification inspections. These inspection reports will help determine the extent of the cracking in the affected fleet. Based on the results of these reports, we may determine that further corrective action is warranted.

Costs of Compliance

The following table provides the estimated costs for U.S. operators to comply with this proposed AD.

Estimated Costs
Action | Work hours | Average labor rate per hour | Parts | Cost per airplane | Number of U.S.-registered airplanes | Fleet cost
Modification (required by AD 2000-05-07) | 70 | $65 | $10,270 | $14,820 | 164 | $2,430,480
Pre-modification inspections (new proposed action), per inspection cycle | 6 | 65 | None | 390 | 164 | $63,960, per inspection cycle.
Post-modification inspections (new proposed action), per inspection cycle | 2 | 65 | None | 130 | 164 | $21,320, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2004-19002; Directorate Identifier 2003-NM-27-AD.

Comments Due Date

(a) The FAA must receive comments on this AD action by April 21, 2006.

Affected ADs

(b) This AD supersedes AD 2000-05-07, amendment 39-11616.

Applicability

(c) This AD applies to Model A300 B2-1A, B2-1C, B2K-3C, B2-203, B4-2C, B4-103, and B4-203 airplanes, as identified in Airbus Service Bulletin A300-57A0234, Revision 05, dated February 19, 2002; and Model A300 B4-601, B4-603, B4-620, B4-622, B4-605R, B4-622R, F4-605R, F4-622R, and C4-605R Varian F airplanes, as identified in Airbus Service Bulletin A300-57A6087, Revision 04, dated February 19, 2002; except airplanes on which Airbus Modification 11912 or 11932 has been installed; certificated in any category.

Unsafe Condition

(d) This AD was prompted by new service information that was issued by the manufacturer and mandated by the French airworthiness authority. We are issuing this AD to prevent fatigue cracking of the main landing gear (MLG) attachment fittings, which could result in reduced structural integrity of the airplane.

Compliance

(e) You are responsible for having the actions required by this AD performed within the compliance times specified, unless the actions have already been done.

Restatement of the Requirements of AD 2000-05-07

Repetitive Inspections

(f) Perform a detailed inspection and a high-frequency eddy current (HFEC) inspection to detect cracks in Gear Rib 5 of the MLG attachment fittings at the lower flange, in accordance with the Accomplishment Instructions of any applicable service bulletin listed in Table 1 and Table 2 of this AD, at the time specified in paragraph (f)(1) or (f)(2) of this AD. After April 12, 2000 (the effective date of AD 2000-05-07), only the service bulletins listed in Table 2 of this AD may be used. Repeat the inspections thereafter at intervals not to exceed 1,500 flight cycles, until paragraph (h), (i), or (k) of this AD is accomplished.

Table 1.—Revision 01 of Service Bulletins
Model | Airbus service bulletin | Revision level | Date
A300 B4-601, B4-603, B4-620, B4-622, B4-605R, B4-622R, F4-605R, F4-622R, and A300 C4-605R Variant F airplanes | A300-57-6087 | 01 | March 11, 1998.
A300 B2 and A300 B4 series airplanes | A300-57-0234 | 01 | March 11, 1998.

Table 2.—further revisions of Service Bulletins
Model | Airbus service bulletin | Revision level | Date
A300 B4-601, B4-603, B4-620, B4-622, B4-605R, B4-622R, F4-605R, F4-622R, and A300 C4-605R Variant F airplanes | A300-57A6087 | 02, including Appendix 01 03, including Appendix 01 04, including Appendix 01 | June 24, 1999. May 19, 2000. February 19, 2002.
A300 B2 and A300 B4 series airplanes | A300-57A0234 | 02, including Appendix 01 | June 24, 1999.
|  | 03, including Appendix 01 | September 2, 1999.
|  | 04, including Appendix 01 | May 19, 2000.
|  | 05, including Appendix 01 | February 19, 2002.

(1) For airplanes that have accumulated 20,000 or more total flight cycles as of March 9, 1998 (the effective date of AD 98-03-06, amendment 39-10298): Inspect within 500 flight cycles after March 9, 1998.

(2) For airplanes that have accumulated less than 20,000 total flight cycles as of March 9, 1998: Inspect prior to the accumulation of 18,000 total flight cycles, or within 1,500 flight cycles after March 9, 1998, whichever occurs later.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Accomplishment of the initial detailed and HFEC inspections in accordance with Airbus Service Bulletin A300-57A0234 or A300-57A6087, both dated August 5, 1997, as applicable, is considered acceptable for compliance with the initial inspections required by paragraph (f) of this AD.

Repair

(g) If any crack is detected during any inspection required by paragraph (f) of this AD, prior to further flight, accomplish the requirements of paragraphs (g)(1) or (g)(2) of this AD, as applicable.

(1) If a crack is detected at one hole only, and the crack does not extend out of the spotface of the hole, repair in accordance with the Accomplishment Instructions of the applicable service bulletin in Table 2 of this AD.

(2) If a crack is detected at more than one hole, or if any crack at any hole extends out of the spotface of the hole, repair in accordance with a method approved by the Manager, International Branch, ANM-116, Transport Airplane Directorate, FAA, or the Direction Générale de l'Aviation Civile (DGAC) (or its delegated agent).

Terminating Modification

(h) Prior to the accumulation of 21,000 total flight cycles, or within 2 years after October 20, 1999 (the effective date of AD 99-19-26, amendment 39-11313), whichever occurs later: Modify Gear Rib 5 of the MLG attachment fittings at the lower flange in accordance with the Accomplishment Instructions of the applicable service bulletin in Table 3 of this AD. After the effective date of this AD, only Revision 04 of Airbus Service Bulletin A300-57-6088, and Revisions 04 and 05 of Airbus Service Bulletin A300-57-0235 may be used. Accomplishment of this modification constitutes terminating action for the repetitive inspection requirements of paragraphs (f) and (i) of this AD.

Table 3.—Service Bulletins for Terminating Modification
Model | Airbus service bulletin | Revision level | Date
A300 B4-601, B4-603, B4-620, B4-622, B4-605R, B4-622R, F4-605R, F4-622R, and A300 C4-605R Variant F airplanes | A300-57-6088 | 01, including Appendix 01 02 04 | February 1, 1999. September 5, 2002. December 3, 2003.
A300 B2 and A300 B4 | A300-57-0235 | 01, including Appendix 01 | February, 1, 1999.
|  | 03 | September 5, 2002.
|  | 04 | March 13, 2003.
|  | 05 | December 3, 2003.

Note 3: Accomplishment of the modification required by paragraph (h) of this AD prior to April 12, 2000 (the effective date of AD 2000-05-07), in accordance with Airbus Service Bulletin A300-57-6088 or A300-57-0235, both dated August 5, 1998; as applicable; is acceptable for compliance with the requirements of that paragraph.

New Requirements of This AD

New Repetitive Inspections

(i) For airplanes on which the modification specified in paragraph (h) or (k) of this AD has not been done as of the effective date of this AD, perform a detailed and an HFEC inspection to detect cracks of the lower flange of Gear Rib 5 of the MLG at holes 43, 47, 48, 49, 50, 52, and 54, in accordance with the applicable service bulletin listed in Table 4 of this AD. Perform the inspections at the applicable time specified in paragraph (i)(1), (i)(2), (i)(3), or (i)(4) of this AD. Repeat the inspections thereafter at intervals not to exceed 700 flight cycles until the terminating modification required by paragraph (k) of this AD is accomplished. Accomplishment of the inspections per paragraph (i) of this AD, terminates the inspection requirements of paragraph (f) of this AD.

Table 4.—Service Bulletins for Repetitive Inspections
Model | Airbus service bulletin | Revision level | Date
A300 B4-601, B4-603, B4-620, B4-622, B4-605R, B4-622R, F4-605R, F4-622R, and C4-605R Variant F airplanes | A300-57A6087 | 04, including Appendix 01 | February 19, 2002.
A300 B2-1A, B2-1C, B2K-3C, B2-203, B4-2C, B4-103, and B4-203 airplanes | A300-57A0234 | 05, including Appendix 01 | February 19, 2002.

(1) For Model A300 B2-1A, B2-1C, B2K-3C, B2-203, B4-2C, B4-103, and B4-203 airplanes; A300 B4-600, B4-600R, and F4-600R series airplanes; and Model C4-605R Variant F airplanes that have accumulated 18,000 or more total flight cycles as of the effective date of this AD: Within 700 flight cycles after the effective date of this AD.

(2) For Model A300 B2-1A, B2-1C, B2K-3C, and B2-203 airplanes that have accumulated less than 18,000 total flight cycles as of the effective date of this AD: Prior to the accumulation of 18,000 total flight cycles, or within 700 flight cycles after the effective date of this AD, whichever occurs later.

(3) For Model A300 B4-2C, B4-103, and B4-203 airplanes that have accumulated less than 18,000 total flight cycles as of the effective date of this AD: Prior to the accumulation of 14,500 total flight cycles, or within 700 flight cycles after the effective date of this AD, whichever occurs later.

(4) For Model A300 B4-601, B4-603, B4-620, B4-622, B4-605R, B4-622R, F4-605R, F4-622R, and C4-605R Variant F airplanes that have accumulated less than 18,000 total flight cycles as of the effective date of this AD: Prior to the accumulation of 11,600 total flight cycles, or within 700 flight cycles after the effective date of this AD, whichever occurs later.

Crack Repair

(j) If any crack is detected during any inspection required by paragraph (i) of this AD, prior to further flight, accomplish the requirements of paragraph (j)(1) and (j)(2) of this AD, as applicable.

(1) If a crack is detected at only one hole, and the crack does not extend out of the spotface of the hole, repair in accordance with Airbus Service Bulletin A300-57A0234, Revision 05, including Appendix 01, dated February 19, 2002 (for Model A300 B2-1A, B2-1C, B2K-3C, B2-203, B4-2C, B4-103, and B4-203 airplanes); or A300-57A6087, Revision 04, including Appendix 01, dated February 19, 2002 (for Model A300 B4-601, B4-603, B4-620, B4-622, B4-605R, B4-622R, F4-605R, F4-622R, and C4-605R airplanes); as applicable.

(2) If a crack is detected at more than one hole, or if any crack at any hole extends out of the spotface of the hole, repair in accordance with a method approved by the Manager, International Branch, ANM-116, or the DGAC (or its delegated agent).

Terminating Modification

(k) For airplanes on which the terminating modification in paragraph (h) of this AD has not been accomplished before the effective date of this AD: At the earlier of the times specified in paragraphs (k)(1) and (k)(2) of this AD, modify Gear Rib 5 of the MLG attachment fittings at the lower flange. Except as provided by paragraph letter (l) of this AD, do the modification in accordance with the applicable service bulletin in Table 5 of this AD. This action terminates the repetitive inspections requirements of paragraphs (f) and (i) of this AD.

(1) Prior to the accumulation of 21,000 total flight cycles, or within 2 years after October 20, 1999, whichever is later.

(2) Within 16 months after the effective date of this AD.

Table 5.—Service Bulletins for Terminating Modification
Model | Airbus service bulletin | Revision level | Date
A300 B4-601, B4-603, B4-620, B4-622, B4-605R, B4-622R, F4-605R, F4-622R, and C4-605R Variant F airplanes | A300-57-6088 | 04 | December 3, 2003.
A300 B2-1A, B2-1C, B2K-3C, B2-203, B4-2C, B4-103, and B4-203 airplanes | A300-57-0235 | 04 05 | March 13, 2003. December 3, 2003.

(l) Where the applicable service bulletin in paragraph (k) of this AD specifies to contact Airbus for modification instructions; or if there is a previously installed repair at any of the affected fastener holes; or if a crack is found when accomplishing the modification: Prior to further flight, modify in accordance with a method approved by the Manager, International Branch, ANM-116, or the DGAC (or its delegated agent).

Post-Modification Inspections

(m) Within 700 flight cycles after doing the modification in accordance with paragraph (h), (k), or (l) of this AD, or within 6 months after the effective date of this AD, whichever occurs later, except as provided by paragraph (o) of this AD: Do a detailed and an HFEC inspection for cracks at holes 47 and 54 in the lower flange of Gear Rib 5, and do all related investigative and corrective actions before further flight by doing all the actions specified in the Accomplishment Instructions of Airbus Service Bulletin A300-57A0246, including Appendix 01, dated May 20, 2005; or Airbus Service Bulletin A300-57A6101, including Appendix 01, dated May 20, 2005; as applicable. Where the applicable service bulletin specifies to contact Airbus for repair instructions: Prior to further flight, modify in accordance with a method approved by the Manager, International Branch, ANM-116, or the DGAC (or its delegated agent). Repeat the inspection and related investigative and corrective actions thereafter at intervals not to exceed 700 flight cycles. If no crack is detected during the repeat inspection performed at or above 2,100 flight cycles after doing the modification in accordance with paragraph (h), (k), or (l) of this AD, then no further inspection is required. Except, at least one inspection is required after the accumulation of 2,100 flight cycles after installing the modification in accordance with paragraph (h) or (k) of this AD.

Actions Accomplished Per Previous Issues of the Service Bulletins

(n) Actions accomplished before the effective date of this AD per the service bulletins listed in Table 6 of this AD, are considered acceptable for compliance with the corresponding action specified in this AD.

Table 6.—Previous Issues of Service Bulletins
Airbus service bulletin | Revision level | Date
A300-57-0235 | 02, including Appendix 01 | September 27, 1999.
| 03 | September 5, 2002.
A300-57-6088 | 02 | September 5, 2000.
| 03 | March 13, 2003.

Reporting

(o)(1) Although Airbus Service Bulletins A300-57A0234, A300-57-0235, A300-57A6087, A300-57-6088, A300-57A0246, and A300-57A6101, specify to submit certain information to the manufacturer, this AD does not include such a requirement, except as provided by paragraph (o)(2) of this AD.

(2) Where Airbus Service Bulletins A300-57A0246 and A300-57A6101, both dated May 20, 2005, specify to submit a report of positive and negative findings of the post-modification inspection required by paragraph (m) of this AD, within 30 days after the effective date of this AD, submit a report only of the positive findings of post-modification inspections to Airbus, Customer Service Directorate, 1 Rond Point Maurice Bellonte, 31707 Blagnac Cedex, France. The report must include the inspection results, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

Alternative Methods of Compliance (AMOCs)

(p)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs, approved previously per AD 2000-05-07, are approved as AMOCs with this AD.

Related Information

(q) French airworthiness directives 2003-318(B), dated August 20, 2003; and F-2005-113 R1, dated July 20, 2005; also address the subject of this AD.

Issued in Renton, Washington, on March 9, 2006.
Kalene C. Yanamura,
Acting Manager, Transport Airplane Directorate, Aircraft Certification Service.

[FR Doc. E6-4402 Filed 3-24-06; 8:45 am]

BILLING CODE 4910-13-P